DEPARTMENT OF THE INTERIOR

National Park Service

Remaining 2008 Meetings of the Big Cypress National Preserve Off-road Vehicle (ORV) Advisory Committee

AGENCY: Department of the Interior, National Park Service, ORV Advisory Committee.

ACTION: Notice of meetings.

SUMMARY: In accordance with the Federal Advisory Committee Act (Pub. L. 92-463, 86 Stat. 770, 5 U.S.C. App 1, 10), notice is hereby given of the meetings of the Big Cypress National Preserve ORV Advisory Committee for the remainder of 2008.

DATES: The Committee will meet on the following dates:

Monday, May 12, 2008, 3:30-8 p.m.

Monday, July 21, 2008, 3:30-8 p.m.

Tuesday, Sept 23, 2008, 3:30-8 p.m.

Monday, Nov 17, 2008, 3:30-8 p.m.

ADDRESSES: All meetings will be held at the Everglades City Community Center, 205 Buckner Avenue, Everglades City, Florida. Written comments may be sent to: Superintendent, Big Cypress National Preserve, 33100 Tamiami Trail East, Ochopee, FL 34141-1000, Attn: ORV Advisory Committee.

FOR FURTHER INFORMATION CONTACT: Karen Gustin, Superintendent, Big Cypress National Preserve, 33100 Tamiami Trail East, Ochopee, Florida 34141-1000; 239-695-1103, or go to the Web site http://parkplanning.nps.gov/projectHome.cfm?parkId=352&projectId=20437.

SUPPLEMENTARY INFORMATION: The Committee was established (Federal Register, August 1, 2007, pp. 42108-42109) pursuant to the Preserve's 2000 Recreational Off-road Vehicle Management Plan and the Federal Advisory Committee Act of 1972 (5 U.S.C. Appendix) to examine issues and make recommendations regarding the management of ORVs in the Preserve. The agendas for these meetings will be published by press release and on the http://parkplanning.nps.gov/projectHome.cfm?parkId=352&projectId=20437 Web site. The meetings will be open to the public, and time will be reserved for public comment. Oral comments will be summarized for the record. If individuals wish to have their comments recorded verbatim, they must submit them in writing.

Dated: February 15, 2008.
Karen Gustin,
Superintendent, Big Cypress National Preserve.

[FR Doc. E8-3806 Filed 2-27-08; 8:45 am]

BILLING CODE 4310-U6-P